DEPARTMENT OF ENERGY

Federal Energy Regulatory Commission

Combined Notice of Filings

Take notice that the Commission has received the following Natural Gas Pipeline Rate and Refund Report filings:

Filings Instituting Proceedings

Docket Numbers: RP19-1590-002.

Applicants: Honeoye Storage Corporation.

Description: Compliance filing Compliance Filing Adoption of NAESB Version 3.1 to be effective 8/1/2019.

Filed Date: 10/22/19.

Accession Number: 20191022-5007.

Comments Due: 5 p.m. ET 11/4/19.

Docket Numbers: RP20-80-000.

Applicants: Gulf South Pipeline Company, LP.

Description: § 4(d) Rate Filing: Remove expired agreements eff 11-1-2019 to be effective 11/1/2019.

Filed Date: 10/22/19.

Accession Number: 20191022-5000.

Comments Due: 5 p.m. ET 11/4/19.

Docket Numbers: RP20-81-000.

Applicants: Texas Gas Transmission, LLC.

Description: § 4(d) Rate Filing: Remove expired agmts effective 11/1/2019 to be effective 11/1/2019.

Filed Date: 10/22/19.

Accession Number: 20191022-5031.

Comments Due: 5 p.m. ET 11/4/19.

Docket Numbers: RP20-82-000.

Applicants: Southern LNG Company, L.L.C.

Description: § 4(d) Rate Filing: SLNG Electric Power Cost Adjustment—2019 to be effective 12/1/2019.

Filed Date: 10/23/19.

Accession Number: 20191023-5001.

Comments Due: 5 p.m. ET 11/4/19.

Docket Numbers: RP20-83-000.

Applicants: Iroquois Gas Transmission System, L.P.

Description: § 4(d) Rate Filing: 102319 Negotiated Rates—Macquarie Energy LLC H-4090-89 to be effective 11/1/2019.

Filed Date: 10/23/19.

Accession Number: 20191023-5002.

Comments Due: 5 p.m. ET 11/4/19.

Docket Numbers: RP20-84-000.

Applicants: Iroquois Gas Transmission System, L.P.

Description: § 4(d) Rate Filing: 102319 Negotiated Rates—Mercuria Energy America, Inc. R-7540-02 to be effective 11/1/2019.

Filed Date: 10/23/19.

Accession Number: 20191023-5003.

Comments Due: 5 p.m. ET 11/4/19.

Docket Numbers: RP20-85-000.

Applicants: Iroquois Gas Transmission System, L.P.

Description: § 4(d) Rate Filing: 102319 Negotiated Rates—Sequent Energy Management, L.P. H-3075-89 to be effective 11/1/2019.

Filed Date: 10/23/19.

Accession Number: 20191023-5004.

Comments Due: 5 p.m. ET 11/4/19.

Docket Numbers: RP20-86-000.

Applicants: Dominion Energy Transmission, Inc.

Description: § 4(d) Rate Filing: DETI—October 23, 2019 Negotiated Rate Agreements to be effective 11/1/2019.

Filed Date: 10/23/19.

Accession Number: 20191023-5124.

Comments Due: 5 p.m. ET 11/4/19.

Docket Numbers: RP20-87-000.

Applicants: Dominion Energy Cove Point LNG, LP.

Description: § 4(d) Rate Filing: DECP—Rate Schedule LTS Revisions to be effective 11/22/2019.

Filed Date: 10/23/19.

Accession Number: 20191023-5131.

Comments Due: 5 p.m. ET 11/4/19.

Docket Numbers: RP20-89-000.

Applicants: Transcontinental Gas Pipe Line Company, LLC.

Description: § 4(d) Rate Filing: FOS—FTP—Early Termination Provision to be effective 11/24/2019.

Filed Date: 10/24/19.

Accession Number: 20191024-5109.

Comments Due: 5 p.m. ET 11/5/19.

Docket Numbers: RP20-90-000.

Applicants: El Paso Natural Gas Company, L.L.C.

Description: § 4(d) Rate Filing: Non-Conforming Agreements Filing (XTO Energy) to be effective 11/25/2019.

Filed Date: 10/24/19.

Accession Number: 20191024-5131.

Comments Due: 5 p.m. ET 11/5/19.

Docket Numbers: RP20-91-000.

Applicants: Natural Gas Pipeline Company of America.

Description: § 4(d) Rate Filing: Amendments to Negotiated Rate Filing—Macquarie Energy LLC to be effective 11/1/2019.

Filed Date: 10/25/19.

Accession Number: 20191025-5000.

Comments Due: 5 p.m. ET 11/6/19.

Docket Numbers: RP20-92-000.

Applicants: Natural Gas Pipeline Company of America.

Description: § 4(d) Rate Filing: Amendments to Negotiated Rate Filing—Tenaska Marketing Ventures to be effective 11/1/2019.

Filed Date: 10/25/19.

Accession Number: 20191025-5001.

Comments Due: 5 p.m. ET 11/6/19.

Docket Numbers: RP20-93-000.

Applicants: Trunkline Gas Company, LLC.

Description: Compliance filing Annual Interruptible Storage Revenue Credit filed on 10-25-19.

Filed Date: 10/25/19.

Accession Number: 20191025-5004.

Comments Due: 5 p.m. ET 11/6/19.

Docket Numbers: RP20-94-000.

Applicants: Texas Eastern Transmission, LP.

Description: § 4(d) Rate Filing: Negotiated Rates—Chevron 911109 Releases eff 11-1-2019 to be effective 11/1/2019.

Filed Date: 10/25/19.

Accession Number: 20191025-5051.

Comments Due: 5 p.m. ET 11/6/19.

Docket Numbers: RP20-95-000.

Applicants: Peninsula Energy Services Company, Inc.,United Energy Trading, LLC.

Description: Joint Petition for Temporary Waiver of Commission Capacity Release Regulations and Policies, et al. of Peninsula Energy Services Company, Inc., et al under RP20-95.

Filed Date: 10/25/19.

Accession Number: 20191025-5178.

Comments Due: 5 p.m. ET 11/4/19.

Docket Numbers: RP20-96-000.

Applicants: Northern Natural Gas Company.

Description: § 4(d) Rate Filing: 20191025 Negotiated Rate to be effective 10/26/2019.

Filed Date: 10/25/19.

Accession Number: 20191025-5203.

Comments Due: 5 p.m. ET 11/6/19.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 28, 2019.
Nathaniel J. Davis, Sr.,
Deputy Secretary.

[FR Doc. 2019-23918 Filed 10-31-19; 8:45 am]

BILLING CODE 6717-01-P